DEPARTMENT OF LABOR

Mine Safety and Health Administration

Petitions for Modification

The following party has filed a petition to modify the application of an existing safety standard under section 101(c) of the Federal Mine Safety and Health Act of 1977.

1. Mountain Coal Company, LLC

[Docket No. M-2002-061-C]

Mountain Coal Company, LLC, 5174 Highway 133, P.O. Box 591, Somerset, Colorado 81434 has filed a petition to modify the application of 30 CFR 75.321(a)(2) (Air quality) to its West Elk Mine (I.D. No. 05-03672) located in Gunnison County, Colorado. The petitioner requests a modification of the standard to allow personnel to work in bleeder entries where the air quality contains a minimum of 18.0% oxygen. The petitioner states that the stipulations listed below, along with others listed in the petition, would be followed when its proposed alternative method is implemented: (a) Work in bleeder entries would be limited to what is necessary to complete required weekly examinations and maintain the bleeder in travelable condition such as pumping water, repairing water pumping system, installing additional supplemental roof support, calibrating sensors, etc.; (b) Oxygen sensors would be installed to continuously monitor the oxygen content every 4000 feet in the bleeder entry where the oxygen content is less than 19.5%; and (c) Training would be provided to all personnel assigned to work in the bleeder entries in the hazards of oxygen deficiency and the stipulations of this petition. The petitioner states that the reduced oxygen content in the bleeder entry would not affect the purpose of the bleeder entry for methane control. The petitioner asserts that the proposed alternative method would provide at least the same measure of protection as the existing standard, and that application of the existing standard would result in a diminution of safety to the miners.

Request for Comments

Persons interested in these petitions are encouraged to submit comments via e-mail to “comments@msha.gov,” or on a computer disk along with an original hard copy to the Office of Standards, Regulations, and Variances, Mine Safety and Health Administration, 1100 Wilson Boulevard, Room 2352, Arlington, Virginia 22209-3939. All comments must be postmarked or received in that office on or before September 6, 2002. Copies of these petitions are available for inspection at that address.

Dated at Arlington, Virginia this 1st day of August, 2002.
Marvin W. Nichols, Jr.,
Director, Office of Standards, Regulations, and Variances.

[FR Doc. 02-19914 Filed 8-6-02; 8:45 am]

BILLING CODE 4510-43-P